FEDERAL COMMUNICATIONS COMMISSION

Sunshine Act Meeting

April 11, 2008.

FCC Announces April Open Meeting on Broadband Network Management Practices at Stanford University

The Federal Communications Commission (FCC) today announced that its April Open Meeting will be a public En Banc hearing to be hosted by Stanford Law School's Center for Internet and Society (CIS) at Stanford University in Palo Alto, California on Thursday, April 17, 2008.

The hearing information is as follows:

Date: April 17, 2008.

Time: 12 Noon (Pacific).

Location: Dinkelspiel Auditorium, 471 Lagunita Drive, Stanford University, Palo Alto, California.

Maps/Directions: http://campus-map.stanford.edu/index.cfm?ID=02-200 http://music.stanford.edu/Events/directions.html.

Agenda

12 p.m.

Welcome/Opening Remarks

12:45 p.m.

Panel Discussion 1—Network Management and Consumer Expectations

2:15 p.m.

Break

3 p.m.

Panel Discussion 2—Consumer Access to Emerging Internet Technologies and Applications

4:30 p.m.

Public Comment

6:30 p.m.

Closing Remarks

7 p.m.

Adjournment

The Commission will hear from expert panelists regarding broadband network management practices and Internet-related issues. The hearing scheduled at Stanford University is the second such hearing on broadband network management practices and Internet-related issues to be held by the FCC and follows a similar hearing held at Harvard Law School last month (for more information: http://www.fcc.gov/headlines.html—go to February 25, 2008 headline: `FCC En Banc Hearing on Broadband Network Management Practices, Cambridge, Massachusetts'). The hearing at Stanford University is open to the public, and seating will be available on a first-come, first-served basis. Additional details on this hearing will be forthcoming.

The public may file comments or other documents with the Commission and should reference docket numbers 07-52 and 08-7 when filing by paper or submit your filing electronically by going to http://gullfoss2.fcc.gov/prod/ecfs/upload_v2.cgi and enter proceeding numbers 07-52 and 08-7. Electronic filers need to complete cover forms separately for each docket because the system accepts only one docket number per filing. Filing instructions are provided at http://www.fcc.gov/cgb/ecfs/.

Sign language interpreters and open captioning will be provided for this event. Other reasonable accommodations for people with disabilities are available upon request. Include a description of the accommodation needed, and include a way we can contact you if we need more information. Please make your request as early as possible. Last minute requests will be accepted, but may be impossible to fill. You may send an e-mail to fcc504@fcc.gov or call the Consumer & Governmental Affairs Bureau at 202-418-0530 (Voice), 202-418-0432 (TTY).

For additional information about the hearing, please visit the FCC's Web site at http://www.fcc.gov. Press inquiries should be directed to Robert Kenny at 202-418-2668 or Clyde Ensslin at 202-418-0506.

Federal Communications Commission.
William F. Caton,
Deputy Secretary.

[FR Doc. E8-8306 Filed 4-16-08; 8:45 am]

BILLING CODE 6712-01-P